DEPARTMENT OF LABOR

Employment and Training Administration

[TA-W-56,404]

Dunlop Slazenger Manufacturing LLC Now Known as Westminster Manufacturing LLC, a Subsidiary of Dunlop Sports Group America, Inc., Including Leased Workers of Ranstad, Westminster, South Carolina; Amended Certification Regarding Eligibility To Apply for Worker Adjustment Assistance

In accordance with Section 223 of the Trade Act of 1974 (19 U.S.C. 2273), the Department of Labor issued a Certification of Eligibility to Apply for Worker Adjustment Assistance on March 1, 2005, applicable to workers of Dunlop Slazenger Manufacturing LLC, a subsidiary of Dunlop Sports Group America, Inc., including leased workers of Ranstad, Westminster, South Carolina. The notice was published in the Federal Register on April 1, 2005 (70 FR 16848).

At the request of the State agency, the Department reviewed the certification for workers of the subject firm. The workers were engaged in the production of golf balls.

New information provided by the company shows that in July 2005, only the Westminster, South Carolina location of Dunlop Slazenger Manufacturing LLC, a subsidiary of Dunlop Sports Group America, Inc. became known as Westminster Manufacturing LLC, a subsidiary of Dunlop Sports Group America due to a change in ownership. Workers separated from employment at the subject firm had their wages reported under a separate unemployment insurance (UI) tax accounts for Westminster Manufacturing LLC, a subsidiary of Dunlop Sports Group America, Inc.

Accordingly, the Department is amending this certification to properly reflect this matter.

The intent of the Department's certification is to include all workers of Dunlop Slazenger Manufacturing LLC, a subsidiary of Dunlop Sports Group America, Inc., now known as Westminster Manufacturing LLC, a subsidiary of Dunlop Sports Group America, Inc. who was adversely affected by a shift in production to Mexico.

The amended notice applicable to TA-W-56,404 is hereby issued as follows:

“All workers of Dunlop Slazenger Manufacturing LLC, now known as Westminster Manufacturing LLC, including on-site leased workers of Ranstad, a subsidiary of Dunlop Sports Group America, Inc., Westminster, South Carolina, who became totally or partially separated from employment on or after January 15, 2004, through March 1, 2007, are eligible to apply for adjustment assistance under Section 223 of the Trade Act of 1974.”

Signed at Washington, DC this 28th day of November 2005.
Linda G. Poole,
Certifying Officer, Division of Trade Adjustment Assistance.

[FR Doc. E5-7046 Filed 12-7-05; 8:45 am]

BILLING CODE 4510-30-P